DEPARTMENT OF THE INTERIOR

Bureau of Ocean Energy Management

Geological and Geophysical Exploration on the Atlantic Outer Continental Shelf (OCS)

AGENCY: Bureau of Ocean Energy Management (BOEM), Interior.

ACTION: Notice of Availability of a Draft Programmatic Environmental Impact Statement.

SUMMARY: This Notice of Availability (NOA) is published pursuant to the regulations (40 CFR part 1503 and 43 CFR part 46) implementing the provisions of the National Environmental Policy Act (NEPA) of 1969, as amended (42 U.S.C. 4321 et seq. (1988)).

BOEM has prepared a Draft Programmatic Environmental Impact Statement (PEIS) to evaluate potential environmental effects of multiple Geological and Geophysical (G&G) activities in the Mid- and South Atlantic Planning Areas of the OCS. These activities include, but are not limited to, seismic surveys, sidescan-sonar surveys, electromagnetic surveys, geological and geochemical sampling, and remote sensing. The Draft PEIS considers G&G activities for the three program areas managed by BOEM: (1) Oil and gas exploration and development; (2) renewable energy; and (3) marine minerals.

A Notice of Intent (NOI) to prepare the PEIS was published in the Federal Register on January 21, 2009, and scoping comments were received during a comment period that closed on March 23, 2009. Scoping was reopened by publication of a Federal Register Notice on April 2, 2010, that announced a 45-day scoping period and meeting locations in April 2010. The comment period closed on May 17, 2010.

DATES: Comments on this draft PEIS will be accepted until 60 days following the date of publication in the Federal Register.

ADDRESSES: If you wish to comment, you may submit your written comments by the following methods. Written comments should be enclosed in an envelope labeled “Comments on the Draft PEIS for Atlantic G&G Activities” and mailed (or hand carried) to Mr. Gary D. Goeke, Chief, Regional Assessment Section, Office of Environment (MS 5410), Bureau of Ocean Energy Management, Gulf of Mexico OCS Region, 1201 Elmwood Park Boulevard, New Orleans, Louisiana 70123-2394. Comments by email should be sent to: GGEIS@boem.gov. See Supplementary Information section for information on submitting comments via the internet and the public disclosure of commenters' names and addresses.

FOR FURTHER INFORMATION CONTACT: For more information on the Draft PEIS, you may contact Mr. Gary D. Goeke, Bureau of Ocean Energy Management, Gulf of Mexico OCS Region, 1201 Elmwood Park Boulevard (MS 5410), New Orleans, Louisiana 70123-2394. You may also contact Mr. Goeke by telephone at (504) 736-3233.

SUPPLEMENTARY INFORMATION: To obtain a single printed or CD-ROM copy of the Draft PEIS, you may contact BOEM, Gulf of Mexico OCS Region, Public Information Office (MS 5034), 1201 Elmwood Park Boulevard, Room 250, New Orleans, Louisiana 70123-2394 (1-800-200-GULF). An electronic copy of the Draft PEIS is available at the BOEM's Internet Web site at http://www.boem.gov/Oil-and-Gas-Energy-Program/GOMR/GandG.aspx. Several libraries in Atlantic coastal states have also been sent copies of the Draft PEIS (CDs or hard copy; according to their preference and their selection criteria for receipt of government documents). To find out which libraries have copies of the Draft PEIS for review, you may contact BOEM's Public Information Office at the number provided above.

Public hearings will be held on the dates listed below at the specified times and locations. BOEM will receive statements, both oral and written. Persons wishing to speak may request to be placed on the speakers' list by contacting BOEM in advance of a specific public meeting or may sign up to speak upon arrival. To allow time for all speakers to participate, speakers should anticipate time limits for oral testimony.

The following public meetings are scheduled as follows:

April 16, 2012—Jacksonville Marriott, 4760 Salisbury Road, Jacksonville, Florida, 1 p.m. and 7 p.m. EDT.

April 18, 2012—Coastal Georgia Center, 305 Farm Street, Savannah, Georgia, 1 p.m. and 7 p.m. EDT.

April 20, 2012—Embassy Suites North Charleston, 5055 International Boulevard, Charleston, South Carolina, 1 p.m. and 7 p.m. EDT.

April 24, 2012—Hilton Norfolk Airport, 1500 N. Military Highway, Norfolk, Virginia, 1 p.m. and 7 p.m. EDT.

April 25, 2012—Doubletree Hotel, 210 Holiday Court, Annapolis, Maryland, 1 p.m. and 7 p.m. EDT.

April 26, 2012—Sheraton Suites, 422 Delaware Avenue, Wilmington, Delaware, 1 p.m. and 7 p.m. EDT.

April 26, 2012—Hilton Wilmington Riverside, 301 North Water Street, Wilmington, North Carolina, 1 p.m. and 7 p.m. EDT.

April 27, 2012—Atlantic City Convention Center, (Room 301 tentative), One Convention Boulevard, Atlantic City, New Jersey, 1 p.m. EDT.

Public Disclosure of Names and Addresses

Before including your address, phone number, email address, or other personal identifying information in your comment, be advised that your entire comment, including your personal identifying information, may be made publicly available at any time. While you can ask us in your comment to withhold from public review your personal identifying information, we cannot guarantee that we will be able to do so.

Dated: March 26, 2012.
Willie R. Taylor,
Director, Office of Environmental Policy and Compliance.

[FR Doc. 2012-7693 Filed 3-29-12; 8:45 am]

BILLING CODE 4310-VH-P